DEPARTMENT OF HEALTH AND HUMAN SERVICES

Centers for Disease Control and Prevention

[60Day-03-95]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Increasing Cervical Cancer Screening in Never/Rarely Screened, Black Women: Phase I—New—National Center for Chronic Disease Prevention and Health Promotion (NCCDPHP), Centers for Disease Control and Prevention (CDC).

Black women in the United States have higher incidence of cervical cancer than White women and higher mortality from cervical cancer than White women. Cancer mortality data from 1974-1994 for Black women show stable, geographic patterns of cervical cancer mortality predominantly in the southeastern part of the United States. While screening rates of Black women are shown to be similar to White women, subgroups of Black women may remain unscreened or under-screened (more than three years since last Pap test), specifically those who are medically uninsured or underinsured or live in rural areas of the country. Screening rates are particularly low for women without access to health care.

The purpose of this project is to conduct formative research to better understand why some Black women ages 40 to 64 do not participate in cervical cancer screening. The proposed study will use focus groups and personal interviews to gather information that will be used to guide future intervention strategies to increase cervical cancer screening in never or rarely screened Black women. There will be no cost to respondents.

Respondents | No. of respondents | No. of responses per respondent | Average burden per responses (in hrs.) | Total burden (in hrs.)
Black women ages 40-64 | 240 | 1 | 90/60 | 360
Total |  |  |  | 360

Dated: July 10, 2003.
Thomas A. Bartenfeld,
Acting Associate Director for Policy, Planning and Evaluation, Centers for Disease Control and Prevention.

[FR Doc. 03-17943 Filed 7-15-03; 8:45 am]

BILLING CODE 4163-18-P